DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 4, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance”)

Dated: December 11, 2014.
Roy E. Wright,
Deputy Associate Administrator for Mitigation, Department of Homeland Security, Federal Emergency Management Agency.

Community | Community map repository address
New Castle County, Delaware, and Incorporated Areas
Docket No.: FEMA-B-1352
City of Delaware City | City Hall, 407 Clinton Street, Delaware City, DE 19706.
City of New Castle | Public Works Building, 900 Wilmington Road, New Castle, DE 19720-3638.
City of Wilmington | Department of Licensing and Inspection, 800 North French Street, Wilmington, DE 19801.
Town of Middletown | Town Hall, 19 West Green Street, Middletown, DE 19709.
Town of Odessa | Town Hall, 315 Main Street, Odessa, DE 19730.
Town of Townsend | Town Hall, 661 South Street, Townsend, DE 19734.
Unincorporated Areas of New Castle County | New Castle County Land Use Department, 87 Reads Way, New Castle, DE 19720.
Howard County, Indiana, and Incorporated Areas
Docket No.: FEMA-B-1348
City of Kokomo | Kokomo Planning Commission, 120 East Mulberry Street, Suite 114, Kokomo, IN 46901.
Town of Greentown | Town Hall, 112 North Meridian Street, Greentown, IN 46936.
Town of Russiaville | Town Hall, 250 North Union Street, Russiaville, IN 46979.
Unincorporated Areas of Howard County | Kokomo Planning Commission, 120 East Mulberry Street, Suite 114, Kokomo, IN 46901.
Somerset County, Maryland and Incorporated Areas
Docket No.: FEMA-B-1352
City of Crisfield | City Hall, 319 West Main Street, Crisfield, MD 21817.
Town of Princess Anne | Town Hall, 30489 Broad Street, Princess Anne, MD 21853.
Unincorporated Areas of Somerset County | Somerset County Department of Technical and Community Services, 11916 Somerset Avenue, Suite 211, Princess Anne, MD 21853.
Mecosta County, Michigan (All Jurisdictions)
Docket No.: FEMA-B-1348
Charter Township of Green | Green Charter Township, 21431 Northland Drive, Paris, MI 49338.
City of Big Rapids | City Hall, 226 North Michigan Avenue, Big Rapids, MI 49307.
Township of Aetna | Aetna Township Hall, 196 North Cass Street, Morley, MI 49336.
Township of Austin | Austin Township Hall, 14132 Pierce Road, Stanwood, MI 49346.
Township of Big Rapids | Township Hall, 14212 Northland Drive, Big Rapids, MI 49307.
Township of Colfax | Colfax Township Hall, 14428 157th Avenue, Big Rapids, MI 49307.
Township of Deerfield | Deerfield Township Hall, 396 East Fourth Street, Morley, MI 49336.
Township of Fork | Fork Township Hall, 147 Northern Avenue, Barryton, MI 49305.
Township of Grant | Grant Township Hall, 21 Mile Road and 150th Avenue, Big Rapids, MI 49307.
Township of Mecosta | Mecosta Township Hall, 19729 11 Mile Road, Big Rapids, MI 49307.
Township of Morton | Morton Township Hall, 290 West Main Street, Mecosta, MI 49332.
Village of Barryton | Village Hall, 94 Angel, Barryton, MI 49305.
Village of Mecosta | Village Office, 115 West Main Street, Mecosta, MI 49332.
Village of Morley | Village Hall, 189 South Cass Street, Morley, MI 49336.
Jefferson County, Wisconsin, and Incorporated Areas
Docket No.: FEMA-B-1315
City of Fort Atkinson | City Hall, 101 North Main Street, Fort Atkinson, WI 53538.
City of Jefferson | City Hall, 317 South Main Street, Jefferson, WI 53549.
City of Lake Mills | City Hall, 200 D Water Street, Lake Mills, WI 53551.
City of Waterloo | City Hall, 136 North Monroe Street, Waterloo, WI 53594.
City of Watertown | City Hall, 106 Jones Street, Watertown, WI 53094.
City of Whitewater | City Hall, 312 West Whitewater Street, Whitewater, WI 53190.
Unincorporated Areas of Jefferson County | County Courthouse, Room 201, 320 North Main Street, Jefferson, WI 53949.
Village of Cambridge | Village Hall, 200 Spring Street, Cambridge, WI 53523.
Village of Johnson Creek | Village Hall, 125 Depot Street, Johnson Creek, WI 53038.
Village of Lac La Belle | Village Hall, 600 Lac La Belle Drive, Oconomowoc, WI 53066.
Village of Palmyra | Village Hall, 100 West Taft Street, Palmyra, WI 53156.

[FR Doc. 2014-30679 Filed 12-30-14; 8:45 am]

BILLING CODE 9110-12-P